DEPARTMENT OF THE INTERIOR

Bureau of Land Management

[LLWO320000 L13100000 PP0000 LXSIOSHL0000]

Notice of Availability of the Proposed Land Use Plan Amendments for Allocation of Oil Shale and Tar Sands Resources on Lands Administered by the Bureau of Land Management in Colorado, Utah, and Wyoming and Final Programmatic Environmental Impact Statement

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared the Proposed Resource Management Plan (RMP) Amendments for Allocation of Oil Shale and Tar Sands Resources on Lands Administered by the BLM in Colorado, Utah, and Wyoming and Final Programmatic Environmental Impact Statement (EIS) and by this notice is announcing their availability. Under the Proposed Plan, approximately 676,967 acres would be open for application for future leasing and development of oil shale, and approximately 129,567 acres would be open for potential tar sands leasing and development.

DATES: BLM planning regulations state that any person who meets the conditions as described in the regulations may protest the BLM's Proposed RMP/Final EIS. A person who meets the conditions and files a protest must file the protest within 30 days of the date that the Environmental Protection Agency publishes its Notice of Availability (NOA) in the Federal Register.

ADDRESSES: Copies of the Proposed RMP/Final EIS have been sent to affected Federal, State, and local government agencies and to other stakeholders, including tribal governments. Copies of the Proposed RMP/Final EIS are available for public inspection at the BLM office locations listed in the SUPPLEMENTARY INFORMATION section of this notice.

Interested persons may also review the Proposed RMP/Final EIS at the following Web site: http://ostseis.anl.gov. All protests must be in writing and mailed to one of the following addresses:

Regular Mail: BLM Director (210), Attention: Brenda Williams, P.O. Box 71383, Washington, DC 20024-1383.

Overnight Mail: BLM Director (210), Attention: Brenda Williams, 20 M Street SE., Room 2134LM, Washington, DC 20003.

Publication of the NOA for the Proposed RMP/Final EIS does not trigger a formal comment period. The BLM, however, may choose to review any comments submitted following publication of the NOA and use them to inform the agency's Record of Decision (ROD). Those individuals wishing to submit comments are asked to do so through the Oil Shale and Tar Sands Programmatic EIS project Web site (http://ostseis.anl.gov). Individuals should note that the BLM will consider comments only to the extent practicable and will not respond to comments individually.

FOR FURTHER INFORMATION, CONTACT: Sherri Thompson, BLM Oil Shale and Tar Sands Resources Programmatic EIS Project Manager, by telephone: 303-239-3758; mail: BLM Colorado Office, 2850 Youngfield Street, Lakewood, Colorado 80215; or email: sthompso@blm.gov. Persons who use a telecommunications device for the deaf (TDD) may call the Federal Information Relay Service (FIRS) at 800-877-8339 to contact the above individual during normal business hours. The FIRS is available 24 hours a day, 7 days a week, to leave a message or question with the above individual. You will receive a reply during normal business hours.

SUPPLEMENTARY INFORMATION: Copies of the Proposed RMP/Final EIS are available for public inspection at the following BLM office locations:

Colorado State Office, 2850 Youngfield Street, Lakewood, Colorado 80215.

Northwest District Office, 2815 H Road, Grand Junction, Colorado 81506.

Colorado River Valley Field Office, 2300 River Frontage Road, Silt, Colorado 81652.

White River Field Office, 220 East Market Street, Meeker, Colorado 81641.

Utah State Office, 440 West 200 South, Suite 500, Salt Lake City, Utah 84101.

Green River District Office, 170 South 500 East, Vernal Utah 84078.

Price Field Office, 125 South 600 West, Price, Utah 84501.

Color Country District Office, 176 East D.L. Sargent Drive, Cedar City, Utah 84721.

Richfield Field Office, 150 East 900 North, Richfield, Utah 84701.

Canyon Country District Office, 82 East Dogwood, Moab, Utah 84532.

Monticello Field Office, 365 North Main, Monticello, Utah 84535.

Wyoming State Office, 5353 Yellowstone Road, Cheyenne, Wyoming 82009.

High Desert District Office, 280 Highway 191 North, Rock Springs, Wyoming 82901.

Kemmerer Field Office, 312 Highway 189 North, Kemmerer, Wyoming 83101.

Rawlins Field Office, 1300 North Third, Rawlins, Wyoming 82301.

In September 2008, pursuant to Section 369 of the Energy Policy Act of 2005, FLPMA, and NEPA, the BLM issued a Proposed Plan Amendments/Final Oil Shale and Tar Sands (OSTS) Programmatic EIS analyzing the environmental and socioeconomic impacts of amending 12 land use plans to designate public lands administered by the BLM as available for commercial leasing for oil shale or tar sands development. The planning area lies within the Green River Formation in Colorado, Utah, and Wyoming. The November 17, 2008, ROD that followed this Programmatic EIS adopted the proposed land use amendments reflecting the allocation decisions analyzed in the 2008 OSTS Programmatic EIS. These land allocation decisions, which are currently in effect, were challenged in a lawsuit brought by a coalition of environmental organizations in January 2009. As part of a settlement agreement entered into by the United States to resolve the lawsuit and in light of new information that has emerged since the 2008 OSTS Programmatic EIS was prepared, the BLM decided to take a fresh look at the land allocations analyzed in the 2008 OSTS Programmatic EIS. In this Proposed RMP/Final EIS (2012), the BLM proposes to amend 10 land use plans in Colorado, Utah, and Wyoming to describe those areas that will be open and those that will be closed to application for commercial leasing, exploration, and development of oil shale and tar sands resources.

The BLM published its Notice of Intent to prepare a Programmatic EIS in the Federal Register on April 14, 2011 (76 FR 21003). The BLM conducted public scoping meetings in April and May of 2011, in Salt Lake City, Vernal, and Price, Utah; Rock Springs and Cheyenne, Wyoming; and Rifle and Denver, Colorado. Approximately 28,800 people participated in the scoping process by attending public meetings and/or submitting comments. The BLM published a scoping report in October 2011, summarizing and categorizing issues, concerns, and comments, and considered them in developing the alternatives in this 2012 Programmatic EIS.

The study area analyzed in the Programmatic EIS for the oil shale resources includes the most geologically prospective resources of the Green River Formation located in the Green River, Piceance, Uinta, and Washakie Basins, encompassing approximately 3,540,000 acres on the basis of the grade and thickness of the oil shale deposits.

For the tar sands resources, the study area analyzed in the Programmatic EIS includes those locations designated as Special Tar Sand Areas (STSAs) by Congress in the Combined Hydrocarbon Leasing Act of 1981 (Pub. L. 97-78). The tar sands study area covers about 1,026,000 acres.

The oil shale and tar sands resources within the study areas defined in the Programmatic EIS are located within the jurisdiction of 12 separate BLM administrative units. These units are Glenwood Springs, Grand Junction, and White River Field Offices in Colorado; the Moab, Monticello, Price, Richfield, and Vernal Field Offices, and the Grand Staircase Escalante National Monument in Utah; and the Kemmerer, Rawlins, and Rock Springs Field Offices in Wyoming.

Within the above-listed administrative units and the defined boundaries of the most geologically prospective resources of the Green River formation and the designated STSAs, public lands managed by the BLM where the Federal government owns full fee title or just the subsurface mineral estate (split estate lands) are included in the scope of the Programmatic EIS analysis. Tribal lands on which both the surface estate and subsurface mineral estate are owned by the tribe are not included in the scope of analysis.

The Environmental Protection Agency published a NOA of the Draft RMP Amendments/Programmatic EIS in the Federal Register on February 3, 2012 (77 FR 5513), for a 90-day public review and comment period. The comment period closed on May 2, 2012. Open house meetings were held during March 2012 to provide additional information on the Draft Programmatic EIS. Comments on the Draft Programmatic EIS received from the public and cooperating agencies were considered and incorporated, as appropriate, into the proposed plan amendments. Of the more than 161,000 comment letters received, about 600 contained substantive comments and approximately 160,400 appeared to be similar or identical to one another (i.e., form letters). Issues identified in the comments include air quality, climate change, water quality and quantity, socio-economic concerns, wildlife concerns, and cultural resources concerns, as well as concerns related to the agency's compliance with FLPMA, NEPA and the Energy Policy Act of 2005.

Comments on the Draft RMP Amendment/Draft Programmatic EIS received from the public, cooperating agencies, other Federal agencies, as well as internal BLM review were considered and information incorporated as appropriate into the Proposed RMP Amendments/Final EIS. As a result of public comments and upon further review, corrections/revisions were made to the Alternatives, and changes were made from what was presented as the Preferred Alternative in the Draft Programmatic EIS. These changes have resulted in a Proposed Plan Amendment (composed of Alternative 2(b) from the Draft Programmatic EIS, as well as certain elements of the other Alternatives) that references new acreage figures. The 2012 Proposed RMP/Final EIS addresses the allocation of BLM-administered lands as closed or open to the potential leasing and development of oil shale and tar sands resources, but will not affect other management decisions contained in the RMPs governing the areas to be included in the study area. Under the Proposed Plan, approximately 676,967 acres would be open for application for future leasing and development of oil shale and approximately 129,567 acres would be open for potential tar sands leasing and development.

Instructions for filing a protest with the Director of the BLM regarding the Proposed RMP/Final EIS may be found in the “Dear Reader” letter of the Proposed RMP/Final EIS and at 43 CFR 1610.5-2. All protests must be in writing and mailed to the appropriate address, as set forth in the ADDRESSES section above. Emailed and faxed protests will not be accepted as valid protests unless the protesting party also provides the original letter by either regular or overnight mail postmarked by the close of the protest period.

Under these conditions, the BLM will consider the emailed or faxed protest as an advance copy and it will receive full consideration. If you wish to provide the BLM with such advance notification, please direct emails to Brenda_Hudgens-Williams@blm.gov and faxed protests to the attention of the BLM protest coordinator at 202-245-0028.

Before including your phone number, email address, or other personal identifying information in your protest, you should be aware that your entire protest—including your personal identifying information—may be made publicly available at any time. While you can ask us in your protest to withhold your personal identifying information from public review, we cannot guarantee that we will be able to do so.

Authority: 40 CFR 1506.6 and 1506.10; and 43 CFR 1610.2 and 1610.5.

Michael D. Nedd,
Assistant Director, Minerals and Realty Management.

[FR Doc. 2012-27405 Filed 11-9-12; 8:45 am]

BILLING CODE 4210-84-P